DEPARTMENT OF JUSTICE

Antitrust Division

Notice Pursuant to the National Cooperative Research and Production Act of 1993—DVD Copy Control Association

Notice is hereby given that, on December 5, 2008, pursuant to Section 6(a) of the National Cooperative Research and Production Act of 1993, 15 U.S.C. 4301 et seq. (“the Act”), DVD CCA (“DVD CCA”) has filed written notifications simultaneously with the Attorney General and the Federal Trade Commission disclosing changes in its membership. The notifications were filed for the purpose of extending the Act's provisions limiting the recovery of antitrust plaintiffs to actual damages under specified circumstances. Specifically, Sound Technology (S.Z.) Co. Ltd., Shenzhen, PEOPLE'S REPUBLIC OF CHINA; Vulcan Inc., Seattle, WA; Yusan Industries, Ltd., Hong Kong, HONG KONG-CHINA; and Zentek Technology Japan, Inc., Tokyo, JAPAN have been added as parties to this venture.

Also, AWIND, Inc., Taipei, TAIWAN; Bestguide Group Limited, Kowloon, HONG KONG-CHINA; Clevo Co., Taipei, TAIWAN; Coretronic Corporation, Miao-Li, TAIWAN; Cosmic Digital Technology, Ltd., Hong Kong, HONG KONG-CHINA; Daewoo Electronics Corporation, Seoul, REPUBLIC OF KOREA; Dahaam E-Tec Co., Seoul, REPUBLIC OF KOREA; Disctronics Texas, Inc. dba DiscUSA, Plano, TX; Ever Best Industrial (H.K.) Limited, Kowloon, HONG KONG-CHINA; Giant Video Electronics Co., Ltd., Yueh Long, HONG KONG-CHINA; Hansong (Nanjing) Electronic Ltd., Nanjing, PEOPLE'S REPUBLIC OF CHINA; Hing Lung Technology (HK) Company Limited, Hong Kong, HONG KONG-CHINA; KRCD India PVT Ltd., Mumbai, INDIA; Leadtek Research, Inc., Taipei, TAIWAN; Link Concept Technology Ltd., Kowloon, HONG KONG-CHINA; Linpus Technologies, Inc., Taipei, TAIWAN; Major Digital Technology Co., Ltd., Jiangxi, PEOPLE'S REPUBLIC OF CHINA; ODS Optical Disc Service GmbH, Dassow, GERMANY; Premium Disc Corp., Mississauga, Ontario, CANADA; Princeton Technology Corp., Taipei, TAIWAN; Prof ilo Telra Elektronic San. Ve Tic. A.S., Istanbul, TURKEY; SKC Co. Ltd., Seoul, REPUBLIC OF KOREA; Zhongshan Dingcai AV Technology Ltd., Zhongshan, PEOPLE'S REPUBLIC OF CHINA; and Ziova Corporation Pty Ltd., Lonsdale, South Australia, AUSTRALIA have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on September 10, 2008. A notice was published in the Federal Register pursuant to Section 6(b) of the Act on October 21, 2008 (73 FR 62541)

Patricia A. Brink,
Deputy Director of Operations, Antitrust Division.

[FR Doc. E9-757 Filed 1-16-09; 8:45 am]

BILLING CODE 4410-11-M